DEPARTMENT OF TRANSPORTATION

Coast Guard

33 CFR Part 117

[CGD07-02-001]

Drawbridge Operation Regulations; 63rd Street Bridge, Indian Creek, Mile 4.0, Miami Beach, Miami-Dade County, FL

AGENCY: Coast Guard, DOT.

ACTION: Notice of temporary deviation from regulations.

SUMMARY: The Commander, Seventh Coast Guard District, has approved a temporary deviation from the regulations governing the operation of the 63rd Street Bridge across Indian Creek, mile 4.0, Miami Beach, Miami-Dade County, Florida. This deviation allows the drawbridge owner or operator to not open the Bridge from January 15, 2002 to January 19, 2002. This temporary deviation is required to allow the bridge owner to safely complete repairs to the Bridge.

DATES: This deviation is effective from 12:01 a.m. on January 15, 2002 until 11:59 p.m. on January 19, 2002.

ADDRESSES: Material received from the public, as well as documents indicated in this preamble as being available in the docket, will become part of this docket and will be available for inspection or copying at Commander (obr), Seventh Coast Guard District, 909 S.E. 1st Avenue, Miami, FL 33131 between 7:30 a.m. and 4 p.m., Monday through Friday, except Federal holidays.

FOR FURTHER INFORMATION CONTACT: Mr. Barry Dragon, Chief, Operations Section, Seventh Coast Guard District, Bridge Section at (305) 415-6743.

SUPPLEMENTARY INFORMATION: The 63rd Street Bridge across Indian Creek, Miami Beach, Miami-Dade County, Florida is a double leaf bridge with a vertical clearance of 11.0 feet above mean high water (MHW) measured at the fenders in the closed position with a horizontal clearance of 50 feet. On December 21, 2001, the Florida Department of Transportation, the drawbridge owner, requested a deviation from the current operating regulation in 33 CFR part 117 which requires the draw of the 63rd Street Bridge, mile 4.04 at Miami Beach, to open on signal. This temporary deviation was requested to allow necessary repairs to the drawbridge in a critical time sensitive manner.

The District Commander has granted a temporary deviation from the operating requirements listed in 33 CFR part 117 to complete repairs to the drawbridge. Under this deviation, the 63rd Street Bridge need not open either span from 12:01 a.m. on January 15, 2002 until 11:59 p.m. on January 19, 2002.

Dated: January 7, 2002.
Greg E. Shapley,
Chief, Bridge Administration, Seventh Coast Guard District.

[FR Doc. 02-859 Filed 1-11-02; 8:45 am]

BILLING CODE 4910-15-P